DEPARTMENT OF ENERGY

Federal Energy Regulatory Commission

Combined Notice of Filings # 1

March 24, 2008.

Take notice that the Commission received the following electric corporate filings:

Docket Numbers: EC08-56-000.

Applicants: Benton County Wind Farm LLC; Benton County Holding Company LLC; General Electric Capital Corporation; Aircraft Services Corporation.

Description: Benton County Wind Farm LLC et al. submits an application for authorization for the transfer of certain passive membership interest in Benton County from upstream owner, Benton County Holdings.

Filed Date: 03/18/2008.

Accession Number: 20080321-0060.

Comment Date: 5 p.m. Eastern Time on Tuesday, April 8, 2008.

Docket Numbers: EC08-59-000.

Applicants: Harbinger Capital Partners Master Fund I; Harbinger Capital Partners Special Situation.

Description: Harbinger Capital Partners Master Fund I, Ltd et al. section 203 Application for approval of the acquisition of shares in excess of 10% of the outstanding voting securities of Mirant Corp.

Filed Date: 03/21/2008.

Accession Number: 20080321-5041.

Comment Date: 5 p.m. Eastern Time on Friday, April 11, 2008.

Docket Numbers: EC08-60-000.

Applicants: Solios Power LLC; Solios Asset Management LLC.

Description: Application for Authorization for Dispositions of Jurisdictional Facilities, Request for Blanket Authorization for Future Dispositions, and Request for Expedited Action.

Filed Date: 03/20/2008.

Accession Number: 20080324-0004.

Comment Date: 5 p.m. Eastern Time on Thursday, April 10, 2008.

Take notice that the Commission received the following electric rate filings:

Docket Numbers: ER96-1551-019; ER01-615-015; ER07-965-001.

Applicants: Public Service Company of New Mexico; EnergyCo Marketing and Trading, LLC.

Description: Public Service Company of New Mexico's Amendment to Change in Status Filing.

Filed Date: 03/20/2008.

Accession Number: 20080320-5051.

Comment Date: 5 p.m. Eastern Time on Thursday, April 10, 2008.

Docket Numbers: ER98-1643-012.

Applicants: Portland General Electric Company.

Description: Portland General Electric Company submits Original Sheet 1 et al. to FERC Electric Tariff, Sixth Revised Volume 11 pursuant to the requirements of Order 697.

Filed Date: 03/20/2008.

Accession Number: 20080324-0002.

Comment Date: 5 p.m. Eastern Time on Thursday, April 10, 2008.

Docket Numbers: ER08-75-000; ER08-75-001; ER08-75-002.

Applicants: Del Light Inc.

Description: Del Light Inc. withdraws its application.

Filed Date: 03/19/2008.

Accession Number: 20080320-0220.

Comment Date: 5 p.m. Eastern Time on Wednesday, April 9, 2008.

Docket Numbers: ER08-374-002.

Applicants: Atlantic Path 15, LLC.

Description: Atlantic Path 15, LLC submits corrected Appendix I to their FERC Electric Tariff First Revised Volume 1 reflecting the Transmission Revenue Balancing Account Adjustment.

Filed Date: 03/20/2008.

Accession Number: 20080324-0003.

Comment Date: 5 p.m. Eastern Time on Thursday, April 10, 2008.

Docket Numbers: ER08-463-001.

Applicants: American Electric Power Service Corporation.

Description: Southwestern Electric Power Company submits filing in compliance with the Commission's Letter Order of 2/29/08, a Notice of Cancellation revised to comply with Order 614,65 etc.

Filed Date: 03/20/2008.

Accession Number: 20080321-0090.

Comment Date: 5 p.m. Eastern Time on Thursday, April 10, 2008.

Docket Numbers: ER08-651-001.

Applicants: AmerenEnergy Marketing Company.

Description: Ameren Energy Marketing Company provides notice to the Commission that the final form of the Confirmation Agreement for the request for proposals for capacity for the planning year June 1, 2008 through May 31, 2009.

Filed Date: 03/20/2008.

Accession Number: 20080321-0091.

Comment Date: 5 p.m. Eastern Time on Monday, March 31, 2008.

Docket Numbers: ER08-653-001.

Applicants: Union Electric Company.

Description: Union Electric Company provides notice to the Commission that the final form of the Confirmation Agreement for the request for proposals for capacity for the planning year June 1, 2008 through May 31, 2009 etc.

Filed Date: 03/20/2008.

Accession Number: 20080321-0092.

Comment Date: 5 p.m. Eastern Time on Monday, March 31, 2008.

Docket Numbers: ER08-682-000.

Applicants: Idaho Power Company.

Description: Idaho Power Company submits an errata to their 3/17/08 compliance filing by submitting additional tariff sheet, Second Revised Sheet 113 to FERC Electric Tariff, First Revised Volume 6.

Filed Date: 03/20/2008.

Accession Number: 20080321-0024.

Comment Date: 5 p.m. Eastern Time on Thursday, April 10, 2008.

Docket Numbers: ER08-688-000.

Applicants: Duke Energy Indiana, Inc.

Description: Duke Energy submits updated summary schedules for the Transmission and Local Facilities Agreement for the Calendar Year 2006 between Duke Energy and Indiana Municipal Power Agency.

Filed Date: 03/19/2008.

Accession Number: 20080321-0085.

Comment Date: 5 p.m. Eastern Time on Wednesday, April 9, 2008.

Docket Numbers: ER08-689-000.

Applicants: Entergy Services, Inc.

Description: Entergy Operating Companies submits an executed First Revised Network Integration Transmission Service Agreement between Entergy Service, Inc. and the City of Benton, Arkansas.

Filed Date: 03/19/2008.

Accession Number: 20080321-0086.

Comment Date: 5 p.m. Eastern Time on Wednesday, April 9, 2008.

Docket Numbers: ER08-690-000.

Applicants: Entergy Services, Inc.

Description: Entergy Operating Companies submits an executed Network Integration Transmission Service Agreement between Entergy Service, Inc and the City of West Memphis et al.

Filed Date: 03/19/2008.

Accession Number: 20080321-0087.

Comment Date: 5 p.m. Eastern Time on Wednesday, April 9, 2008.

Docket Numbers: ER08-691-000.

Applicants: PJM Interconnection, L.L.C.

Description: PJM Interconnection, LLC submits revisions to the PJM Open Access Transmission Tariff and Amended and Restated Operating Agreement.

Filed Date: 03/19/2008.

Accession Number: 20080321-0088.

Comment Date: 5 p.m. Eastern Time on Wednesday, April 9, 2008.

Docket Numbers: ER08-692-000.

Applicants: Mountain Wind Power II, LLC.

Description: Petition of Mountain wind Power II, LLC for order accepting Market-Based Rate Tariff for filing and granting Waivers and Blanket Approvals re Mountain Wind Power, II, LLC.

Filed Date: 03/20/2008.

Accession Number: 20080321-0089.

Comment Date: 5 p.m. Eastern Time on Thursday, April 10, 2008.

Docket Numbers: ER08-694-000.

Applicants: Potomac Electric Power Company.

Description: Potomac Electric Power Company submits an executed Construction Agreement with Southern Maryland Electric Cooperative.

Filed Date: 03/21/2008.

Accession Number: 20080324-0001.

Comment Date: 5 p.m. Eastern Time on Friday, April 11, 2008.

Docket Numbers: ER08-695-000; EC08-57-000.

Applicants: New York Independent System Operator, Inc.

Description: Initial tariff compliance filing of the New York Independent System Operator Inc implementing New York City ICAP Market Mitigation Measures.

Filed Date: 03/20/2008.

Accession Number: 20080321-0138.

Comment Date: 5 p.m. Eastern Time on Thursday, April 10, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at: http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-6426 Filed 3-27-08; 8:45 am]

BILLING CODE 6717-01-P